DEPARTMENT OF COMMERCE

National Oceanic and Atmospheric Administration

RIN 0648-XO23

National Marine Fisheries Service, Pacific Fishery Management Council (Pacific Council); April 2-9, 2009 Council Meeting

AGENCY: National Marine Fisheries Service, National Oceanic and Atmospheric Administration, Commerce.

ACTION: Notice of public meetings.

SUMMARY: The Pacific Council and its advisory entities will hold public meetings.

DATES: The Council and its advisory entities will meet April 2-9, 2009. The Council meeting will begin on Saturday, April 4, at 8:00 a.m., reconvening each day through Thursday, April 9. All meetings are open to the public, except a closed session will be held from 8:00 a.m. until 9:00 a.m. on Saturday, April 4 to address litigation and personnel matters. The Council will meet as late as necessary each day to complete its scheduled business.

ADDRESSES: The meetings will be held at The Westin San Francisco Airport, 1 Old Bayshore Highway, Millbrae, California 94030; telephone: 650-692-3500. The Pacific Council address is Pacific Fishery Management Council, 7700 NE Ambassador Place, Suite 101, Portland, OR 97220.

FOR FURTHER INFORMATION CONTACT: Dr. Donald O. McIsaac, Executive Director, telephone 866-806-7204 or 503-820-2280; or access the Pacific Council website, www.pcouncil.org for the current meeting location, proposed agenda, and meeting briefing materials.

SUPPLEMENTARY INFORMATION: The following items are on the Pacific Council agenda, but not necessarily in this order:

A. Call to Order

1. Opening Remarks and Introductions

2. Roll Call

3. Executive Director(s Report

4. Approve Agenda

B. Open Comment Period

1. Comments on Non-Agenda Items

C. Habitat

1. Current Habitat Issues

D. Highly Migratory Species Management

1. National Marine Fisheries Service Report

2. Fishery Management Plan Amendment 2 - High Seas Shallow-Set Longline

3. Fishery Management Plan Amendments to Implement Annual Catch Limit Requirements

4. International Regional Fishery Management Organization Matters

E. Marine Protected Areas

1. Update on Olympic Coast National Marine Sanctuary Management Plan Review Process

F. Groundfish Management

1. National Marine Fisheries Service Report

2. Consideration of Inseason Adjustments

3. Fishery Management Plan Amendment 21 - Intersector Allocation

4. Fishery Management Plan Amendment 20 - Trawl Rationalization — Community Fishery Association and Miscellaneous Clarification Issues

5. Fishery Management Plan Amendment 20 - Trawl Rationalization — Analysis of Parameters for Adaptive Management Program

6. Final Consideration of Inseason Adjustments

7. Fishery Plan Amendments to Implement Annual Catch Limit Requirements

8. Review of Implementing Regulations for the Vessel Monitoring System

G. Administrative Matters

1. Legislative Matters

2. Approval of Council Meeting Minutes

3. Membership Appointments and Council Operating Procedures

4. Review of Proposed Rule on Council Standard Operating Policies and Procedures

5. Future Council Meeting Agenda and Workload Planning

H. Salmon Management

1. Update on National Marine Fisheries Service Draft Biological Opinion for California Water Projects

2. Work Group Report on Causes of 2008 Salmon Failure

3. Tentative Adoption of 2009 Ocean Salmon Management Measures for Analysis

4. Clarify Council Direction on 2009 Management Measures

5. Methodology Review Process and Preliminary Topic Selection for 2009

6. Update on Mitchell Act Hatchery Environmental Impact Statement

7. Final Action on 2009 Management Measures

I. Pacific Halibut Management

1. Incidental 2009 Catch Regulations for the Salmon Troll and Fixed Gear Sablefish Fisheries

Advisory entities are scheduled to meet April 2-9, 2009 in conjunction with the Pacific Council as follows:

Thursday, April 2, 2009

Highly Migratory Advisory Subpanel-1:00 p.m.

Highly Migratory Management Team-8:00 a.m.

Friday, April 3, 2009

Highly Migratory Advisory Subpanel-8:00 a.m.

Highly Migratory Management Team-8:00 a.m.

Scientific and Statistical Committee-8:00 a.m.

Habitat Committee-8:30 a.m.

Legislative Committee-3:30 p.m.

Saturday, April 4, 2009

Pacific Council Secretariat-7:00 a.m.

Washington State Delegation-7:00 a.m.

Oregon State Delegation-7:00 a.m.

California State Delegation-7:00 a.m.

Highly Migratory Advisory Subpanel-8:00 a.m.

Highly Migratory Management Team-8:00 a.m.

Scientific and Statistical Committee-8:00 a.m.

Tribal Policy Group-8:00 a.m.

Tribal and Washington Technical Group-8:00 a.m.

Groundfish Advisory Subpanel-1:00 p.m.

Groundfish Management Team-1:00 p.m.

Enforcement Consultants-4:30 p.m.

Sunday, April 5, 2009

Pacific Council Secretariat-To be determined

Washington State Delegation-To be determined

Oregon State Delegation-To be determined

California State Delegation-To be determined

Enforcement Consultants-10:00 a.m.

Groundfish Advisory Subpanel-10:00 a.m.

Groundfish Management Team-10:00 a.m.

Salmon Advisory Subpanel-10:00 a.m.

Salmon Technical Team-10:00 a.m.

Tribal Policy Group-10:00 a.m.

Tribal and Washington Technical Group-10:00 a.m.

Monday, April 6, 2009:

Pacific Council Secretariat-7:00 a.m.

Washington State Delegation-7:00 a.m.

Oregon State Delegation-7:00 a.m.

California State Delegation-7:00 a.m.

Enforcement Consultants-8:00 a.m.

Groundfish Advisory Subpanel-8:00 a.m.

Groundfish Management Team-8:00 a.m.

Salmon Advisory Subpanel-8:00 a.m.

Salmon Technical Team-8:00 a.m.

Tribal Policy Group-8:00 a.m.

Tribal and Washington Technical Group-8:00 a.m.

Tuesday, April 7, 2009:

Pacific Council Secretariat-7:00 a.m.

Washington State Delegation-7:00 a.m.

Oregon State Delegation-7:00 a.m.

California State Delegation-7:00 a.m.

Enforcement Consultants-8:00 a.m.

Groundfish Advisory Subpanel-8:00 a.m.

Groundfish Management Team-8:00 a.m.

Salmon Advisory Subpanel-8:00 a.m.

Salmon Technical Team-8:00 a.m.

Tribal Policy Group-8:00 a.m.

Tribal and Washington Technical Group-8:00 a.m.

Wednesday, April 8, 2009:

Pacific Council Secretariat-7:00 a.m.

Washington State Delegation-7:00 a.m.

Oregon State Delegation-7:00 a.m.

California State Delegation-7:00 a.m.

Enforcement Consultants-8:00 a.m.

Groundfish Advisory Subpanel-8:00 a.m.

Groundfish Management Team-8:00 a.m.

Salmon Advisory Subpanel-8:00 a.m.

Salmon Technical Team-8:00 a.m.

Tribal Policy Group-8:00 a.m.

Tribal and Washington Technical Group-8:00 a.m.

Thursday, April 9, 2009:

Pacific Council Secretariat-7:00 a.m.

Washington State Delegation-7:00 a.m.

Oregon State Delegation-7:00 a.m.

California State Delegation-7:00 a.m.

Salmon Advisory Subpanel-8:00 a.m.

Salmon Technical Team-8:00 a.m.

Tribal Policy Group-8:00 a.m.

Tribal and Washington Technical Group-8:00 a.m.

Although non-emergency issues not contained in this agenda may come before the Pacific Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at 503-820-2280 at least five days prior to the meeting date.

Dated: March 17, 2009.
Tracey L. Thompson,
Acting Director, Office of Sustainable Fisheries, National Marine Fisheries Service.

[FR Doc. E9-6090 Filed 3-18-09; 8:45 am]

BILLING CODE 3510-22-S